DEPARTMENT OF TRANSPORTATION

Federal Aviation Administration

14 CFR Part 39

[Docket No. FAA-2008-0857; Directorate Identifier 2007-NM-317-AD; Amendment 39-15785; AD 2009-01-06]

RIN 2120-AA64

Airworthiness Directives; Dornier Model 328-300 Airplanes

AGENCY: Federal Aviation Administration (FAA), Department of Transportation (DOT).

ACTION: Final rule.

SUMMARY: The FAA is superseding an existing airworthiness directive (AD), which applies to all AvCraft Dornier Model 328-300 airplanes. That AD currently requires modifying the electrical wiring of the fuel pumps; installing insulation at the flow control and shut-off valves, and other components of the environmental control system; installing markings at fuel wiring harnesses; replacing the wiring harness of the auxiliary fuel system with a new wiring harness; and installing insulated couplings in the fuel system; as applicable. The existing AD also requires revising the Airworthiness Limitations section of the Instructions for Continued Airworthiness to incorporate new inspections of the fuel tank system. This new AD replaces the flight-hour-based threshold for conducting certain initial inspections, with a calendar-based threshold. This AD results from fuel system reviews conducted by the manufacturer. We are issuing this AD to reduce the potential of ignition sources inside fuel tanks, which, in combination with flammable fuel vapors, could result in fuel tank explosions and consequent loss of the airplane.

DATES: This AD becomes effective April 3, 2009.

The Director of the Federal Register approved the incorporation by reference of a certain publication listed in the AD as of April 3, 2009.

On September 6, 2005 (70 FR 44046, August 1, 2005), the Director of the Federal Register approved the incorporation by reference of certain other publications referenced in this AD.

ADDRESSES: For service information identified in this AD, contact 328 Support Services GmbH, Global Support Center, P.O. Box 1252, D-82231 Wessling, Federal Republic of Germany; telephone +49 8153 88111 6666; fax +49 8153 88111 6565; e-mail gsc.op@328support.de; Internet http://www.328support.de.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Groves, Aerospace Engineer, International Branch, ANM-116, Transport Airplane Directorate, FAA, 1601 Lind Avenue, SW., Renton, Washington 98057-3356; telephone (425) 227-1503; fax (425) 227-1149.

SUPPLEMENTARY INFORMATION:

Discussion

The FAA issued a notice of proposed rulemaking (NPRM) to amend 14 CFR part 39 to include an AD that supersedes AD 2005-15-16, amendment 39-14205 (70 FR 44046, August 1, 2005). The existing AD applies to all AvCraft Dornier Model 328-300 airplanes. That NPRM was published in the Federal Register on August 11, 2008 (73 FR 46569). That NPRM proposed to continue to require modifying the electrical wiring of the fuel pumps; installing insulation at the flow control and shut-off valves, and other components of the environmental control system; installing markings at fuel wiring harnesses; replacing the wiring harness of the auxiliary fuel system with a new wiring harness; and installing insulated couplings in the fuel system; as applicable. That NPRM also proposed to continue to require revising the Airworthiness Limitations section of the Instructions for Continued Airworthiness to incorporate new inspections of the fuel tank system. That NPRM also proposed to replace the flight-hour-based threshold for conducting certain initial inspections, with a calendar-based threshold.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD. The average labor rate is $80 per work hour.

Estimated Costs
Actions | Work hours | Parts | Number of U.S.-registered airplanes | Cost per airplane | Fleet cost
Modification/installation with option 033F003 installed (required by AD 2005-15-16 and retained in this AD) | 95 | $9,402 | None, currently | $17,002 if an affected airplane is placed on the U.S. Register in the future | None
Modification/installation without option 033F003 installed (required by AD 2005-15-16 and retained in this AD) | 70 | 14,118 | 28 | $19,718 | $552,104
Airworthiness limitations revision | 1 | None | 28 | $80 | 2,240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14205 (70 FR 44046, August 1, 2005) and by adding the following new airworthiness directive (AD):

2009-01-06 328 Support Services GmbH (Formerly Avcraft Aerospace GmbH, formerly Fairchild Dornier GmbH, formerly Dornier Luftfahrt GmbH): Amendment 39-15785. Docket No. FAA-2008-0857; Directorate Identifier 2007-NM-317-AD.

Effective Date

(a) This AD becomes effective April 3, 2009.

Affected ADs

(b) This AD supersedes AD 2005-15-16.

Applicability

(c) This AD applies to all 328 Support Services GmbH Dornier Model 328-300 airplanes, certificated in any category, serial numbers 3105 through 3223 inclusive.

Unsafe Condition

(d) This AD results from fuel system reviews conducted by the manufacturer. We are issuing this AD to reduce the potential of ignition sources inside fuel tanks, which, in combination with flammable fuel vapors, could result in fuel tank explosions and consequent loss of the airplane.

Compliance

(e) You are responsible for having the actions required by this AD performed within the compliance times specified, unless the actions have already been done.

Note 1: This AD requires revisions to certain operator maintenance documents to include inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (k) of this AD. The request should include a description of changes to the required inspections that will ensure the continued operational safety of the airplane.

Restatement of the Requirements of AD 2005-15-16

Without Option 033F003 Installed: Modification and Installations

(f) For airplanes without option 033F003 installed: Within 12 months after September 6, 2005 (the effective date of AD 2005-15-16), do the actions in Table 1 of this AD in accordance with the Accomplishment Instructions of AvCraft Service Bulletin SB-328J-00-197, dated August 23, 2004.

Table 1—Requirements for Airplanes Without Option 033F003 Installed
Do the following actions— | By accomplishing all the actions specified in—
(1) Modify the electrical wiring of the left-hand and right-hand fuel pumps | Paragraph 1.B(1) of the service bulletin.
(2) Install insulation at the left-hand and right-hand flow control and shut-off valves and other components of the environmental control system | Paragraph 1.B(2) of the service bulletin.
(3) Install markings at fuel wiring harnesses | Paragraph 1.B(3) of the service bulletin.

With Option 033F003 Installed: Modification, Replacement, and Installation

(g) For airplanes with option 033F003 installed: Within 12 months after September 6, 2005, do the actions in Table 2 of this AD in accordance with the Accomplishment Instructions of AvCraft Service Bulletin SB-328J-00-198, dated August 23, 2004.

Table 2—Requirements for Airplanes With Option 033F003 Installed
Do the following actions— | By accomplishing all the actions specified in—
(1) Modify the electrical wiring of the left-hand and right-hand fuel pumps | Paragraph 2.B(1) of the service bulletin.
(2) Replace the wiring harness of the auxiliary fuel system with a new wiring harness | Paragraph 2.B(2) of the service bulletin.
(3) Install markings at fuel wiring harnesses | Paragraph 2.B(3) of the service bulletin.
(4) Install insulated couplings in the fuel system | Paragraph 2.B(5) of the service bulletin.

Revision to Airworthiness Limitations

(h) Within 12 months after September 6, 2005, revise the Airworthiness Limitations section of the Instructions for Continued Airworthiness to incorporate the information in AvCraft Temporary Revision (TR) ALD-028, dated October 15, 2003, into the AvCraft 328JET Airworthiness Limitations Document (ALD). Thereafter, except as provided by paragraph (k) of this AD, no alternative inspection intervals may be approved for this fuel tank system.

Note 2: This may be done by inserting a copy of AvCraft TR ALD-028, dated October 15, 2003, in the AvCraft 328JET ALD. When this TR has been included in general revisions of the AvCraft 328JET ALD, the TR no longer needs to be inserted into the revised Airworthiness Limitations document.

New Requirements of This AD

Revised Initial Compliance Time

(i) For Sub-tasks 28-00-00-02 and 28-00-00-03 (“Detailed Inspection of Outer and Inner Fuel Tank Harness Internal”), as identified in AvCraft TR ALD-028, dated October 15, 2003; or Section G, “Fuel Tank System Limitations,” of the AvCraft Dornier 328JET ALD TM-ALD-010599-ALL, Revision 2, dated January 31, 2005, the initial compliance time is within 8 years after the effective date of this AD. Thereafter, except as provided by paragraph (k) of this AD, these tasks must be accomplished at the repetitive interval specified in Section G, “Fuel Tank System Limitations,” of the AvCraft Dornier 328JET ALD TM-ALD-010599-ALL, Revision 2, dated January 31, 2005.

No Alternative Inspections, Inspection Intervals, or Critical Design Configuration Control Limitations (CDCCLs)

(j) After accomplishing the actions specified in paragraphs (f), (g), and (h), and the initial inspections in paragraph (i) of this AD, no alternative inspections, inspection intervals, or critical design configuration control limitations (CDCCLs) may be used unless the inspections, intervals, or CDCCLs are approved as an alternative method of compliance (AMOC) in accordance with the procedures specified in paragraph (k) of this AD.

Alternative Methods of Compliance (AMOCs)

(k) The Manager, International Branch, ANM-116, Transport Airplane Directorate, FAA, has the authority to approve AMOCs for this AD, if requested using the procedures found in 14 CFR 39.19. Send information to ATTN: Tom Groves, Aerospace Engineer, International Branch, ANM-116, Transport Airplane Directorate, FAA, 1601 Lind Avenue, SW., Renton, Washington 98057-3356; telephone (425) 227-1503; fax (425) 227-1149. Before using any approved AMOC on any airplane to which the AMOC applies, notify your appropriate principal inspector (PI) in the FAA Flight Standards District Office (FSDO), or lacking a PI, your local FSDO.

Related Information

(l) European Aviation Safety Agency Airworthiness Directive 2006-0197 [Corrected], dated July 11, 2006, also addresses the subject of this AD.

Material Incorporated by Reference

(m) You must use the service information identified in Table 3 of this AD, as applicable, to perform the actions that are required by this AD, unless the AD specifies otherwise.

Table 3—All Material Incorporated by Reference
Service information | Revision | Date
AvCraft Service Bulletin SB-328J-00-197, including Price Information Sheet | Original | August 23, 2004.
AvCraft Service Bulletin SB-328J-00-198, including Price Information Sheet | Original | August 23, 2004.
AvCraft Temporary Revision ALD-028 to the AvCraft 328JET Airworthiness Limitations Document | Original | October 15, 2003.
Section G of the AvCraft Dornier 328JET ALD TM-ALD-010599-ALL | 2 | January 31, 2005.

Revision 2, dated January 31, 2005, of AvCraft Dornier 328JET ALD TM-ALD-010599-ALL contains the following effective pages:

Page title/description | Page number(s) | Revision number | Date shown on page(s)
List of Effective Pages
ALD Title Page | None shown | 2 | January 31, 2005.
ALD List of Effective Pages | 1-2 | 2 | January 31, 2005.
Section G, Fuel Tank System Limitations
| 1-3, G-4 | 2 | January 31, 2005.

(1) The Director of the Federal Register approved the incorporation by reference of Section G, “Fuel Tank System Limitations,” of the AvCraft Dornier 328JET ALD TM-ALD-010599-ALL, Revision 2, dated January 31, 2005, under 5 U.S.C. 552(a) and 1 CFR part 51.

(2) On September 6, 2005 (70 FR 44046, August 1, 2005), the Director of the Federal Register approved the incorporation by reference of the service information identified in Table 4 of this AD.

Table 4—Material Previously Incorporated by Reference
Service information | Date
AvCraft Service Bulletin SB-328J-00-197, including Price Information Sheet | August 23, 2004.
AvCraft Service Bulletin SB-328J-00-198, including Price Information Sheet | August 23, 2004.
AvCraft Temporary Revision ALD-028 to the AvCraft 328JET Airworthiness Limitations Document | October 15, 2003.

(3) For service information identified in this AD, contact 328 Support Services GmbH, Global Support Center, P.O. Box 1252, D-82231 Wessling, Federal Republic of Germany; telephone +49 8153 88111 6666; fax +49 8153 88111 6565; e-mail gsc.op@328support.de; Internet http://www.328support.de.

(4) You may review copies of the service information that is incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html.

Issued in Renton, Washington, on December 18, 2008.
Stephen P. Boyd,
Assistant Manager, Transport Airplane Directorate, Aircraft Certification Service.

[FR Doc. E9-3871 Filed 2-26-09; 8:45 am]

BILLING CODE 4910-13-P